DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Wednesday and Thursday, Dec. 5 and 6, 2007. On December 5, the council members convene at 9 a.m. in the Abalone Room at the Little River Inn, 7751 Highway 1, Little River, CA. Time for public comment has been set aside for 11 a.m. On May 6, the council convenes at 7:30 a.m. at the Little River Inn and departs for a tour to discuss management of the California Coastal National Monument and the Stornetta Public Lands. Members of the public are welcome on the tour, but they must provide their own transportation and lunch.

FOR FURTHER INFORMATION CONTACT: Rich Burns, BLM Ukiah Field Office manager, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics include an update on management proposals for the Sacramento River Bend, a discussion of funding needs for BLM's northern California projects, status reports on management plan development for Lacks Creek and the Cow Mountain National Recreation Area and a report on legislation affecting the California off highway vehicle recreation program. Members will also hear status reports on activities in the Arcata, Redding and Ukiah field offices and the California Coastal National Monument. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: October 19, 2007.
Joseph J. Fontana,
Public Affairs Officer.

[FR Doc. 07-5280 Filed 10-24-07; 8:45 am]

BILLING CODE 4310-40-P